DEPARTMENT OF THE TREASURY

[Docket ID: TREAS-DO-2013-0006]

Request for Information on Strategies To Accelerate the Testing and Adoption of Pay for Success (PFS) Financing Models

AGENCY: Office of Domestic Finance, Department of the Treasury.

ACTION: Request for information; reopening of comment period.

SUMMARY: The Department of the Treasury is reopening the comment period on its request for information on Strategies to Accelerate the Testing and Adoption of Pay for Success (PFS) Financing Models. The President's FY 2014 budget included a request for a $300 million one-time mandatory appropriation for a new Incentive Fund to help state and local governments implement PFS programs. In order to inform the Administration's development of this legislative initiative, the request for information (RFI) seeks information on options for financing models and the most promising programmatic areas ¹ that could be served by the Incentive Fund. Treasury is reopening the comment period until December 20, 2013 to provide additional opportunity to comment.

¹ THE BUDGET FOR FISCAL YEAR 2014—See page 978 of the President's FY 2014 Budget Appendix (see http://www.whitehouse.gov/omb/budget/Appendix).

DATES: Responses must be received by December 20, 2013.

ADDRESSES: Submit your comments through the Federal eRulemaking Portal or via U.S. mail, commercial delivery, or hand delivery. We will not accept comments by fax or by email. To ensure that we do not receive duplicate copies, please submit your comments only one time. In addition, please include the Docket ID and the term “PFS Incentive Fund RFI” at the top of your comments.

• Federal eRulemaking Portal: Go to www.regulations.gov to submit your comments electronically. Information on using Regulations.gov, including instructions for accessing agency documents, submitting comments, and viewing the docket, is available on the site under a tab titled “Are you new to the site?”

• U.S. Mail, Commercial Delivery, or Hand Delivery: If you mail or deliver your comments, address them to Cara Camacho, Attention: Pay for Success Incentive Fund RFI, U.S. Department of the Treasury, 1500 Pennsylvania Avenue NW., Room 1325, Washington, DC 20220.

• Privacy Note: The Department's policy for comments received from members of the public (including comments submitted by mail, commercial delivery, or hand delivery) is to make these submissions available for public viewing in their entirety on the Federal eRulemaking Portal at www.regulations.gov. Therefore, commenters should be careful to include in their comments only information that they wish to make publicly available on the Internet.

FOR FURTHER INFORMATION CONTACT: Cara Camacho by email: cara.camacho@treasury.gov.

SUPPLEMENTARY INFORMATION: On October 2, 2013, the Department of the Treasury published in the Federal Register the RFI on Strategies to Accelerate the Testing and Adoption of Pay for Success (PFS) Financing Models (78 FR 60998). The RFI offered states, tribal governments, localities, community based and other non-profit organizations, private sector donors, researchers, and other interested individuals and entities the opportunity to provide information on effective approaches for improving outcomes for social services and other program areas by employing financing mechanisms that pay for results. This notice reopens the comment period for the RFI until December 20, 2013 in order to provide an additional opportunity to comment.

Donet Graves,
Deputy Assistant Secretary for Small Business, Community Development and Housing Policy.

[FR Doc. 2013-29935 Filed 12-16-13; 8:45 am]

BILLING CODE 4810-25-P